DEPARTMENT OF THE INTERIOR

Bureau of Land Management

[NV-040-5101-ER-F336; 6-08807]

Notice of Intent To Prepare an Environmental Impact Statement for a Proposed Coal-Fired Electric Power Generating Plant in Southeastern Lincoln County and Notice of Public Scoping Meetings; Nevada

AGENCY: Bureau of Land Management, Interior.

ACTION: Notice of Intent to Prepare an Environmental Impact Statement and Initiate Scoping.

SUMMARY: Pursuant to section 102 (2)(C) of the National Environmental Policy Act of 1969, the Bureau of Land Management (BLM), Ely Field Office, will be directing the preparation of an environmental impact statement (EIS) and conducting public scoping meetings for the proposed Toquop Energy Power Project, which is a coal-fired electric power generating plant and associated ancillary facilities. BLM has received right-of-way applicants for this project from Toquop Energy Inc. The EIS will assess the potential impacts of a right-of-way for a proposed coal-fired facility and a new railroad line to transport coal to the facility. The Toquop Energy Power Project was previously analyzed in a March 2003 EIS as an 1100 MW gas-fired electric generating facility. Use of an alternative fuel such as coal was eliminated from the 2003 EIS and never analyzed due to economics and other factors at the time.

DATES: The publication of this notice initiates the public scoping comment period. Comments on the scope of the EIS, including concerns, issues, or proposed alternatives that should be considered in the EIS must be submitted in writing to the address below. Comments will be accepted until March 23, 2006. Four public scoping meetings are planned during the 30-day scoping period. The meetings will provide the public an opportunity to present comments concerning the Proposed Action that will be addressed in the EIS. The meetings will be held in Reno, Caliente, Mesquite, and Las Vegas, Nevada. The dates, locations, and times of the meetings will be distributed by mail and announced in the local news media on or about the date of this notice.

All comments received at the public scoping meetings or through submitted written comments will aid the BLM in identifying alternatives and mitigating measures to assure all issues are analyzed in the EIS.

ADDRESSES: Please mail written comments to the BLM, Ely Field Office, HC 33 Box 33500, Ely, NV 89301, or by visiting the Ely Field Office at 702 North Industrial Way. Comments submitted during this EIS process, including names and street addresses of respondents, will be available for public review at the Ely Field Office during regular business hours 7:30 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or business, will be made available for public inspection in their entirety.

FOR FURTHER INFORMATION CONTACT: Doris Metcalf at (775) 289-1852, or e-mail Doris_Metcalf@nv.blm.gov. You may also contact Ms. Metcalf at the address above.

SUPPLEMENTARY INFORMATION: On June 15 and June 28, 2001, Toquop Energy Inc. filed applications for Federal Land Policy and Management Act rights-of-way and a temporary use permit to construct and operate an 1100 MW gas-fired power plant to be located in southeast Lincoln County. The applications sought rights-of-way for: (1) An access road from Interstate 15 to the planned project site; (2) a water pipeline, electrical line and well field access road easement running from the proposed power plant site to a terminus point in a proposed well field site in the Tule Desert Area; and (3) a well field in the Tule Desert area and an associated water pump station and equalizer tank. In March 2003, the BLM completed a Final EIS in support of this request. The EIS evaluated the proposed rights-of-way and a No Action alternative. The BLM granted Toquop Energy Inc. the rights-of-way in 2003.

The March 2003 EIS considered evaluating several project and right-of-way alternatives, among which was the use of an alternative fuel such as coal. This alternative was eliminated from the 2003 EIS because project economics did not support such an alternative at the time. Therefore, a coal-fired plant was never analyzed. However, a recent change in market conditions, driven by the ever higher and volatile prices of natural gas, is making this alternative more desirable and economically viable. The BLM intends to prepare an EIS to re-evaluate the alternative of constructing a 750 MW coal-fired power plant in lieu of an 1100 MW gas-fired power plant and complete studies necessary for a new 36-mile long railroad right-of-way connecting the project site to the existing Union Pacific Railway siding near Leith, NV. The EIS will evaluate, among other things, the alternative of constructing a 750 MW coal-fired power plant, a new railroad access line, coal unloading/handling/storage facilities, a solid waste disposal facility, water storage and treatment facilities, evaporation pond, cooling towers, and electric switchyard and support buildings. The facilities would be generally located within and/or across the following sections of public land:

Mount Diablo Meridian

Power Plant

T. 11 S., R 69 E., Section 36.

Railroad

T. 8 S., R. 67 E., Sections 14, 15, 23, 26, and 35;

T. 9 S., R. 67 E., Sections 1, 2, 12, and 13;

T. 9 S., R. 68 E., Sections 7, 16, 17, 18, 21, 22, 23, 24, 25, 26, and 36;

T. 9 S., R. 69 E., Section 31;

T. 10 S., R. 69 E., Sections 6, 7, 8, 17, 20, 29, 32, and 33;

T. 11 S., R. 69 E., Sections 3, 4, 9, 10, 14, 16, 21, 22, 23, 24, 25, 34, 35, and 36.

A map of the proposed project is available for viewing at the Bureau of Land Management, Ely Field Office, 702 North Industrial Way, Ely, NV 89301.

Dated: December 15, 2005.
Gene A. Kolkman,
Field Manager.

[FR Doc. E6-2384 Filed 2-17-06; 8:45 am]

BILLING CODE 4310-HC-P